SURFACE TRANSPORTATION BOARD

[Docket No. FD 36346]

Wisconsin Central Ltd.—Operation Exemption—Hallett Dock No. 5 in Duluth, Minn.

Wisconsin Central Ltd. (WCL), a rail carrier,¹ filed a petition seeking an exemption under 49 U.S.C. 10502 from the prior approval requirements of 49 U.S.C. 10901 to operate a rail/water dock facility in Duluth, Minn., known as Hallett Dock No. 5 (the Dock), after WCL acquires the Dock from its current noncarrier owner, Hallett Dock Company. The Dock is an approximately 100-acre, ground-level rail/water bulk commodity transfer and storage dock facility that includes a 2,400-foot vessel berth, two ship loaders, a railcar unloader, dry storage building, approximately 9,000 feet of rail trackage on the dock, and approximately 6,300 feet of adjacent railcar holding tracks along the shore line.

¹ WCL is an indirect subsidiary of Canadian National Railway Company.

In an accompanying petition to set a procedural schedule, WCL requests that replies to the petition for exemption be due by December 13, 2019, and WCL's response by January 2, 2020.

The Board will institute an exemption proceeding pursuant to 49 U.S.C. 10502(b). A procedural schedule will be set as noted below, consistent with the reply and response deadlines WCL requested.

All pleadings, referring to Docket No. FD 36346, must be filed with the Surface Transportation Board either via e-filing or in writing addressed to 395 E Street, SW, Washington, DC 20423-0001. In addition, a copy of each pleading must be served on WCL's representative: Thomas J. Litwiler, Fletcher & Sippel LLC, 29 North Wacker Drive, Suite 800, Chicago, IL 60606-3208.

Board decisions and notices are available at www.stb.gov.

It is ordered:

1. An exemption proceeding is instituted under 49 U.S.C. 10502(b).

2. Replies to WCL's petition are due by December 13, 2019.

3. WCL's response to any replies is due by January 2, 2020.

4. Notice of this decision will be published in the Federal Register.

5. This decision is effective on its date of service.

Decided: November 18, 2019.
By the Board, Scott M. Zimmerman, Acting Director, Office of Proceedings.
Kenyatta Clay,
Clearance Clerk.

[FR Doc. 2019-25334 Filed 11-21-19; 8:45 am]

BILLING CODE 4915-01-P